DEPARTMENT OF THE INTERIOR

National Park Service

[NPS-WASO-NRSS-WRD-NPS0036931, 2380, PPMRSNR1Y.NM0000, PPWONRADW0 (244); OMB Control Number 1024-NEW]

Agency Information Collection Activities; National Park Service Creel Survey

AGENCY: National Park Service, Interior.

ACTION: Notice of Information Collection; request for comment.

SUMMARY: In accordance with the Paperwork Reduction Act of 1995, we, the National Park Service (NPS) are proposing a new information collection.

DATES: Interested persons are invited to submit your comment on or before February 13, 2024.

ADDRESSES: Please provide a copy of your comments to the NPS Information Collection Clearance Officer (ADIR-ICCO), 13461 Sunrise Valley Drive (MS-244) Reston, VA 20192 (mail); or phadrea_ponds@nps.gov (email). Please reference OMB Control Number 1024-NEW (Creel Survey) in the subject line of your comments.

FOR FURTHER INFORMATION CONTACT: To request additional information about this information collection request (ICR), contact Christine Lipsky, Marine Ecologist at christine_lipsky@nps.gov (email); or 970-267-2133 (telephone). Please reference OMB Control Number 1024-NEW (Creel Survey) in the subject line of your comments. Individuals in the United States who are deaf, deafblind, hard of hearing, or have a speech disability may dial 711 (TTY, TDD, or TeleBraille) to access telecommunications relay services. Individuals outside the United States should use the relay services offered within their country to make international calls to the point-of-contact in the United States. You may also view the ICR at https://www.reginfo.gov/public/do/PRAMain.

SUPPLEMENTARY INFORMATION: In accordance with the Paperwork Reduction Act of 1995 (PRA, 44 U.S.C. 3501 et seq.) and 5 CFR 1320.8(d)(1), all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Recreational fishing in NPS units is allowed where it is authorized by Federal law or where it is not specifically prohibited and does not interfere with the functions of natural aquatic or riparian habitats. Angling opportunities exist in over 170 NPS units that encompass diverse aquatic environments and fish communities, including numerous species of interest to anglers. Authorized by 36 CFR 2.3 individual parks and regions, along with State agencies, are responsible for managing their fisheries and associated natural resources. This information collection is intended to create a standard Creel Survey that can be used by park units open to recreational and sports fishing. The information collected will allow park managers to assess fishing pressure, angler catch rates, and potential effects on park resources.

Creel surveys are a common fishery management technique designed to determine the angler's catch of each species and the fishing time required to catch the fish. The information collected describes angler use, fishing pressure, fish harvest, and distribution of several important species of fish.

Title of Collection: National Park Service Creel Survey.

OMB Control Number: 1024-NEW.

Form Number: None.

Type of Review: This is a new collection.

Respondents/Affected Public: Individuals, General public.

Total Estimated Number of Annual Respondents: 10,000.

Total Estimated Number of Annual Responses: 10,000.

Estimated Completion Time per Response: 5 minutes.

Total Estimated Number of Annual Burden Hours: 833 hours.

Respondent's Obligation: Voluntary.

Frequency of Collection: One-time, on occasion.

Total Estimated Annual Nonhour Burden Cost: None.

An agency may not conduct or sponsor and a person is not required to respond to a collection of information unless it displays a currently valid OMB control number.

The authority for this action is the Paperwork Reduction Act of 1995 (44 U.S.C. 3501 et seq.).

Phadrea Ponds,
Information Collection Clearance Officer, National Park Service.

[FR Doc. 2023-27585 Filed 12-14-23; 8:45 am]

BILLING CODE 4312-52-P